DEPARTMENT OF TRANSPORTATION

Federal Motor Carrier Safety Administration

[FMCSA-2013-0172]

Qualification of Drivers; Exemption Applications; Vision

AGENCY: Federal Motor Carrier Safety Administration (FMCSA), DOT.

ACTION: Notice of denials.

SUMMARY: FMCSA announces its denial of 59 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Elaine M. Papp, Chief, Medical Programs Division, 202-366-4001, U.S. Department of Transportation, FMCSA, 1200 New Jersey Avenue SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 59 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 11 applicants had no experience operating a CMV:

Christina L. Anhock

Thomas R. Anthony

Brian Ashbaugh

Eric Betsuie

Eric P. Carr

Adrian L. Johnson

Bradford Kadubic

Dennis A. Mercer II

Elijah Miller

Jorge Monge

Marcus Robinson

The following 9 applicants did not have 3 years of experience driving a CMV on public highways with their vision deficiencies:

Zoraida Bazan

Troy D. Blanton

Donald E. Cessna, Sr.

Douglas H. Huntsman

Mark A. Lane

James McClellan

Louis Pierson

Juan Ramirez

Phillip Starker

The following 5 applicants did not have 3 years of recent experience driving a CMV with the vision deficiency:

Aaron Gage

Daniel D. Henriquez

Dennis Hughey

Edward Rangel

Jeffrey M. Thorpe

The following 9 applicants were denied for miscellaneous/multiple reasons:

Travis Bennett

John D. Bowman

Don Gray

Bruce Gumtow

Gary S. Judds

Timothy M. Leonard

Thomas A. Martin, III

Rodney McMorran

Tyler R. Peebles

The following applicant, Mark P. Huemann, was denied because his vision was not stable for the entire 3-year period.

The following 12 applicants met the current federal vision standards. Exemptions are not required for applicants who meet the current regulations for vision:

Joseph A. Basista

Thomas J. Bruce, Jr.

Barry Foster

Donald M. Gieseke

Marco J. Gonzalez

Rogelio Leyva

Martin R. Manner

Lee A. Mauk

John McKinney

John Rinehart

Scott J. Thompson, Jr.

Christopher M. Walters

The following 10 applicants were denied because they will not be driving interstate, interstate commerce, or not required to carry a DOT medical card:

John H. Bass

Alton L. Carlisle

Timothy F. Dunn

Wesley S. Gnade

Jerry E. Guilford

Glenn F. Hipp

Shane Nelson

Nelson P. Sanschagrin

Robert Schultz

Robert Tackitt

Finally, the following 2 applicants perform transportation for the federal government, state, or any political sub-division of the state.

Marty G. Eastman

Eric D. Kidd

Issued on: December 3, 2013.
Larry W. Minor,
Associate Administrator for Policy.

[FR Doc. 2013-29952 Filed 12-16-13; 8:45 am]

BILLING CODE 4910-EX-P